NATIONAL AERONAUTICS AND SPACE ADMINISTRATION

48 CFR Parts 1807 and 1819

Contract Bundling

AGENCY: National Aeronautics and Space Administration (NASA).

ACTION: Final rule.

SUMMARY: This is a final rule amending the NASA FAR Supplement (NFS) to provide guidance on internal NASA procedures for justifying contract bundling.

EFFECTIVE DATE: August 1, 2000.

FOR FURTHER INFORMATION CONTACT: Tom O'Toole, NASA, Office of Procurement, Contract Management Division (Code HK), (202) 358-0478.

SUPPLEMENTARY INFORMATION:

A. Background

Federal Acquisition Circular 97-15 included an interim rule addressing contract bundling that overlaps existing coverage at NFS 1819.202-170 on contract consolidations. To conform the NFS to the FAR, NASA is eliminating its separate coverage on consolidations. Instead, NASA is supplementing FAR 7.107, Additional requirements for acquisitions involving bundling of contract requirements, to establish the following internal administrative procedures: (1) the justification and documentation mandated by the FAR for “substantial bundling” must be performed for proposed NASA bundlings of $5 million or more; (2) the measurable benefit analysis, justification, and the bundling documentation for each acquisition of $5 million or more must be sent to NASA Headquarters for review; (3) the analysis, justification, and documentation requirements apply to an order from a Federal Supply Schedule contract, Governmentwide acquisition contract, or other indefinite-delivery contract if the requirements consolidated under the order meet the definition of “bundling” at FAR 2.101; and (4) proposed acquisitions identified via the agency's Master Buy Plan process must indicate if they are a bundled acquisition.

B. Regulatory Flexibility Act

This final rule does not constitute a significant revision within the meaning of FAR 1.501 and Pub. Law 98-577 and publication for comments is not required. However, NASA will consider comments from small entities concerning the affected NFS subparts in accordance with 5 U.S.C. 610.

C. Paperwork Reduction Act

The Paperwork Reduction Act does not apply because the changes do not impose information collection requirements that require the approval of the Office of Management and Budget under 44 U.S.C. 3501, et seq.

List of Subjects in 48 CFR Parts 1807 and 1819

Government Procurement.

Tom Luedtke,
Associate Administrator for Procurement.

Accordingly, 48 CFR Parts 1807 and 1819 are amended as follows:

1. The authority citation for 48 CFR Parts 1807 and 1819 continues to read as follows:

Authority: 42 U.S.C. 2473(c)(1).

PART 1807—ACQUISITION PLANNING

2. Add sections 1807.107 and 1807.107-70 to read as follows:

1807.107 Additional requirements for acquisitions involving bundling of contract requirements. (NASA supplements paragraphs (c) and (e).)

(c) Requests for approval of proposed bundlings that do not meet the thresholds in FAR 7.107(b) must be sent to the Headquarters Office of Procurement (Code HS).

(e) The substantial bundling documentation requirement applies to each proposed NASA bundling expected to exceed $5 million or more. The contracting officer must forward the documentation along with the measurable benefits analysis required by FAR 7.107(b) to the Headquarters Office of Procurement (Code HS) in sufficient time to allow a minimum of 10 days for review.

1807.107-70 Orders against Federal Supply Schedule contracts, Governmentwide acquisition contracts (GWACs), or other existing indefinite-delivery contracts.

The FAR and NFS requirements for justification, review, and approval of bundling of contract requirements also apply to an order from a Federal Supply Schedule contract, Governmentwide acquisition contract, or other indefinite-delivery contract if the requirements consolidated under the order meet the definition of “bundling” at FAR 2.101.

3. Table 1807-1 is revised to read as follows:

Table 1807-1
FORMAT
MASTER BUY PLAN PROCEDURES
Line Item No.:XXXXXXXXXXXX | FYXXXXXXXXXXXXXXXX | Page No.:XXXXXXXXXXXX
Installation:XXXXXXXXXXXXX |  | Date:XXXXXXXXXXXXXX

(1) Cognizant Headquarters Office | (2) Descriptive Title of Procurement | (3) Estimated Dollar Value | (4) Acquisition Plan | (5) JOFOC | (6) RFP

(7) SEB | (8) Pre-Neg | (9) Contract Review | (10) Current Status | (11) Remarks |

INSTRUCTIONS
General
1. Prepare on 8½″x11″ paper or electronically.
2. List only one procurement on each page and number each page. Sequentially number each procurement action with a two digit “Line Item Number” beginning with “01” for each annual submission and subsequent amendments.
3. For the initial submissions only, list procurements and their current status from prior fiscal year(s) Master Buy Plans and amendments to MBPs that have not been completed.
4. Do not reproduce these instructions on the submission.
Supplementary instructions by heading number
(1) Include letter code and Headquarters contact, if known.
(2) Include an “N” to indicate new procurement or “FO” to indicate follow-on procurement.
(3) A range of dollar values may be used, if the exact value is unavailable. Express the range as $120M to $25M, $25M, $25M to $50M, and so forth in $25M increments. Include all phases of the procurement. All dollar values must be in real year dollars, i.e., adjusted to include anticipated inflation.
(4) Installation recommendation (“Y” or “N”) that an Acquisition Strategy Meeting be held. (The final decision will be made by Headquarters upon review of the MBP submission.)
(5)-(9) Use “X” to indicate applicable documents. If Column (7) contains an “X”, include your recommendation in that column for the Source Selection Official (SSO). The recommendation should be either the Center SSO or Headquarters SSO (HSSO).
(10) Status should include scheduled date for next event. (Complete horizontally.)
(11) Include data considered pertinent and indicate expected date for placement of contract. If less than full and open competition is involved, indicate the authority being used, identify the firm(s) to which the procurement is being limited, and indicate the current status of the justification document. Include the names and telephone numbers of the cognizant installation procurement person and technical representative. Indicate if the procurement will result in a bundled contract as defined in FAR 2.101.

PART 1819—SMALL BUSINESS PROGRAMS

1819.202-170 [Removed]

4. Section 1819.202-170 is removed.

[FR Doc. 00-19270 Filed 7-31-00; 8:45 am]

BILLING CODE 7510-01-P